DEPARTMENT OF HEALTH AND HUMAN SERVICES

Food and Drug Administration

[Docket No. FDA-2017-N-6475]

Food and Drug Administration Fiscal Year 2017 Performance Review Board Members

AGENCY: Food and Drug Administration, HHS.

ACTION: Notice.

SUMMARY: The Food and Drug Administration (FDA) is announcing the names of the members who will serve on its Performance Review Board (PRB). The purpose of the PRB is to provide fair and impartial review of senior executive service (SES), senior professional and Title 42(f) SES Equivalents performance appraisals, bonus recommendations, and pay adjustments.

DATES: Effective October 30, 2017.

FOR FURTHER INFORMATION CONTACT: Abu Sesay, Office of Human Resources Executive and Resources Management Staff, Food and Drug Administration, Three White Flint North, 05C68, 11601 Landsdown St., North Bethesda, MD 20852, 240-402-0440 (not a toll free number).

SUPPLEMENTARY INFORMATION: This action is being taken pursuant to 5 U.S.C. 4314(c)(4), which requires that members of performance review boards be appointed in a manner to ensure consistency, stability, and objectivity in performance appraisals and requires that notice of the appointment of an individual to serve as a member be published in the Federal Register.

The following persons will serve on the FDA Performance Review Board, which oversees the evaluation of performance appraisals of FDA's senior executives:

James Sigg, PRB Chair

Tania Tse, PRB Officiator

Glenda Barfell

Janelle Barth

Vincent Bunning

Mary Beth Clarke

Tracey Forfa

Leslie Kux

Diane Maloney

Edward Margerrison

Lynne Rice

William Tootle

Dated: November 28, 2017.
Leslie Kux,
Associate Commissioner for Policy.

[FR Doc. 2017-26015 Filed 12-1-17; 8:45 am]

BILLING CODE 4164-01-P